DEPARTMENT OF ENERGY

Federal Energy Regulatory Commission

Combined Notice of Filings #1

Take notice that the Commission received the following electric rate filings:

Docket Numbers: ER18-734-001.

Applicants: Frenchtown III Solar, LLC.

Description: Report Filing: Frenchtown III Refund Report to be effective N/A.

Filed Date: 7/10/19.

Accession Number: 20190710-5050.

Comments Due: 5 p.m. ET 7/31/19.

Docket Numbers: ER18-1226-001.

Applicants: PA Solar Park, LLC.

Description: Report Filing: PA Solar Park Refund Report to be effective N/A.

Filed Date: 7/10/19.

Accession Number: 20190710-5049.

Comments Due: 5 p.m. ET 7/31/19.

Docket Numbers: ER18-2063-001.

Applicants: Flemington Solar, LLC.

Description: Report Filing: Flemington Solar Refund Report to be effective N/A.

Filed Date: 7/10/19.

Accession Number: 20190710-5052.

Comments Due: 5 p.m. ET 7/31/19.

Docket Numbers: ER19-1916-001.

Applicants: Louisville Gas and Electric Company.

Description: Compliance filing: Order No. 845 Additional Information Compliance Filing to be effective 5/22/2019.

Filed Date: 7/10/19.

Accession Number: 20190710-5087.

Comments Due: 5 p.m. ET 7/31/19.

Docket Numbers: ER19-2165-001.

Applicants: Western Interconnect LLC.

Description: Compliance filing: Amendment to Order 845 Compliance Filing to be effective 5/22/2019.

Filed Date: 7/10/19.

Accession Number: 20190710-5063.

Comments Due: 5 p.m. ET 7/31/19.

Docket Numbers: ER19-2231-001.

Applicants: Chief Conemaugh Power II, LLC.

Description: Tariff Amendment: Supplement to Petition for Market-Based Rate Authorization to be effective 8/21/2019.

Filed Date: 7/10/19.

Accession Number: 20190710-5089.

Comments Due: 5 p.m. ET 7/31/19.

Docket Numbers: ER19-2232-001.

Applicants: Chief Keystone Power II, LLC.

Description: Tariff Amendment: Supplement to Petition for Market-Based Rate Authorization to be effective 8/21/2019.

Filed Date: 7/10/19.

Accession Number: 20190710-5092.

Comments Due: 5 p.m. ET 7/31/19.

Docket Numbers: ER19-2369-000.

Applicants: Indigo Generation LLC.

Description: § 205(d) Rate Filing: Revised Market Based Rate Tariff to be effective 7/11/2019.

Filed Date: 7/10/19.

Accession Number: 20190710-5028.

Comments Due: 5 p.m. ET 7/31/19.

Docket Numbers: ER19-2370-000.

Applicants: Larkspur Energy LLC.

Description: § 205(d) Rate Filing: Revised Market Based Rate Tariff to be effective 7/11/2019.

Filed Date: 7/10/19.

Accession Number: 20190710-5029.

Comments Due: 5 p.m. ET 7/31/19.

Docket Numbers: ER19-2371-000.

Applicants: Mariposa Energy, LLC.

Description: § 205(d) Rate Filing: Revised Market Based Rate Tariff to be effective 7/11/2019.

Filed Date: 7/10/19.

Accession Number: 20190710-5034.

Comments Due: 5 p.m. ET 7/31/19.

Docket Numbers: ER19-2373-000.

Applicants: Ashtabula Wind I, LLC.

Description: Baseline eTariff Filing: Ashtabula Wind I, LLC Application for Market-Based Rate Authority to be effective 9/9/2019.

Filed Date: 7/10/19.

Accession Number: 20190710-5041.

Comments Due: 5 p.m. ET 7/31/19.

Docket Numbers: ER19-2374-000.

Applicants: Duke Energy Carolinas, LLC.

Description: § 205(d) Rate Filing: DEC-DEP Affected System Operating Agreement (SA No. 514) (Asheville CC) to be effective 6/19/2019.

Filed Date: 7/10/19.

Accession Number: 20190710-5091.

Comments Due: 5 p.m. ET 7/31/19.

Docket Numbers: ER19-2375-000.

Applicants: City Point Energy Center, LLC.

Description: Tariff Cancellation: Notice of Canellation of Market Based Rate Tariff to be effective 7/11/2019.

Filed Date: 7/10/19.

Accession Number: 20190710-5109.

Comments Due: 5 p.m. ET 7/31/19.

Take notice that the Commission received the following qualifying facility filings:

Docket Numbers: QF95-328-009.

Applicants: EcoElectrica, L.P.

Description: Application for Commission Recertification of Qualifying Facility Status of EcoElectrica, L.P.

Filed Date: 7/9/19.

Accession Number: 20190709-5133.

Comments Due: 7/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2019.
Nathaniel J. Davis, Sr.,
Deputy Secretary.

[FR Doc. 2019-15067 Filed 7-15-19; 8:45 am]

BILLING CODE 6717-01-P